DEPARTMENT OF TRANSPORTATION

Office of the Secretary

[Docket No. DOT-OST-2021-0140]

U.S. DOT Strategic Plan

ACTION: Notice of request for public comment (RFC).

SUMMARY: The Office of the Secretary of Transportation invites the public to comment on the draft DOT Strategic Framework, which includes draft strategic goals and strategic objectives to accomplish each strategic goal. The strategic goals and strategic objectives will be included in the U.S. Department of Transportation (DOT) Strategic Plan for fiscal years (FY) 2022-2026.

DATES: Comments must be received within 14 days from posting of this notice. DOT will consider comments filed after this date to the extent practicable.

ADDRESSES: Written comments may be submitted electronically or via U.S. mail. Respondents are encouraged to submit comments electronically to ensure timely receipt. Please include your name, title, organization, postal address, telephone number, and email address.

• Electronic Submission: Go to http://www.regulations.gov. Search by using the docket number (provided above). Follow the instructions for submitting comments on the electronic docket site.

• Email: dotstrategicplanning@dot.gov. Please include the full body of your comments in the text of the electronic message and as an attachment.

• Mail: Docket Management Facility; U.S. Department of Transportation, 1200 New Jersey Avenue SE, Room PL-401, Washington, DC 20590-0001.

• Instructions: All submissions must include the agency name and docket numbers.

FOR FURTHER INFORMATION CONTACT: Juli Huynh, Director, Office of Policy Coordination and Development, Office of the Assistant Secretary for Transportation Policy, dotstrategicplanning@dot.gov.

SUPPLEMENTARY INFORMATION:

Background: The Government Performance and Results Act (GPRA) of 1993, as amended by the GPRA Modernization Act of 2010 (Pub. L. 111-352), requires that Federal agencies revise and update their strategic plan at the beginning of each new presidential term, and in doing so, solicit input from interested stakeholders. The draft DOT Strategic Framework reflects the Secretary's priorities for achieving DOT's mission through six strategic goals:

• Safety: Make our transportation system safer for all people. Work toward a future where transportation-related serious injuries and fatalities are eliminated.

• Economic Strength & Global Competitiveness: Grow an inclusive and sustainable economy. Invest in our transportation system to provide American workers and businesses reliable and efficient access to good-paying jobs, resources, and markets.

• Equity: Reduce inequities. Support and engage people and communities to promote safe, affordable, accessible, and multimodal access to opportunities and services while reducing transportation-related disparities and adverse community impacts and health effects.

• Climate & Sustainability: Tackle the climate crisis by ensuring that transportation plays a central role in the solution. Substantially reduce greenhouse gas emissions and transportation-related pollution and build more resilient and sustainable transportation systems to benefit and protect communities.

• Transformation: Design for the future. Invest in purpose-driven research and innovation to meet the challenge of the present and modernize a transportation system of the future that serves everyone today and in the decades to come.

• Organizational Excellence: Strengthen our world class organization. Advance the Department's mission by establishing policies, processes, and an inclusive and innovative culture to effectively serve communities and responsibly steward the public's resources.

These strategic goals are supported by strategic objectives that reflect the outcomes DOT is seeking to achieve. The DOT's draft strategic goals and objectives are detailed in the draft DOT Strategic Framework, which can be accessed at https://www.transportation.gov/dot-strategic-plan.

Written Comments: The U.S. DOT invites the public to provide comments to inform the development of the U.S. DOT Strategic Plan for FY 2022-26. In particular, comments may respond to any or all of the following questions:

1. What strategies or priorities should the U.S. DOT adopt to achieve the Department's strategic goals and objectives?

2. How should U.S. DOT measure progress towards those priorities?

3. What emerging challenges or opportunities in transportation warrant additional U.S. DOT activities or investments?

4. How can U.S. DOT best coordinate its activities with Federal, State, local, tribal, labor, private sector, academic, non-profit, international and other stakeholders?

5. How can U.S. DOT best utilize additional programs and authorities in the Infrastructure Investment and Jobs Act to accomplish the goals laid out in the strategic plan?

The Department anticipates that the final U.S. DOT Strategic Plan for FY 2022-2026 will be posted on the DOT website in February 2022.

Public Comment: DOT will consider input and revise the draft DOT Strategic Plan as appropriate.

Signed in Washington, DC, on November 29, 2021.
Christopher Coes,
Principal Deputy Assistant Secretary for Transportation Policy.

[FR Doc. 2021-26266 Filed 12-2-21; 8:45 am]

BILLING CODE 4910-9X-P